DEPARTMENT OF HOMELAND SECURITY

Coast Guard

33 CFR Part 100

[Docket No. USCG-2015-0854]

Special Local Regulations and Safety Zones; Recurring Marine Events and Fireworks Displays Within the Fifth Coast Guard District

AGENCY: Coast Guard, DHS.

ACTION: Notice of enforcement of regulation.

SUMMARY: The Coast Guard will enforce special local regulations for a marine event taking place in the Tred Avon River, between Bellevue, MD and Oxford, MD on June 12, 2016. The date of this enforcement action has changed because the event was postponed by the sponsor due to inclement weather. This action is necessary to ensure safety of life on navigable waters during this event. Our regulation for Recurring Marine Events within the Fifth Coast Guard District identifies the regulated area for this marine event. During the enforcement period, the Coast Guard Patrol Commander or designated Marine Event Patrol may forbid and control the movement of all vessels in the regulated area.

DATES: The regulations in 33 CFR 100.501, listed as event (b)14 in the Table to 33 CFR 100.501 will be enforced from 9 a.m. to 11 a.m. on June 12, 2016.

FOR FURTHER INFORMATION CONTACT: If you have questions about this notice of enforcement, call or email Mr. Ron Houck, U.S. Coast Guard Sector Maryland-National Capital Region (WWM); telephone 410-576-26742, email Ronald.L.Houck@uscg.mil.

SUPPLEMENTARY INFORMATION: The Coast Guard will enforce the regulated area in 33 CFR 100.501 from 9 a.m. until 11 a.m. on June 12, 2016, for the Oxford-Bellevue Sharkfest Swim. The date of this enforcement action has changed because the event was postponed by the sponsor due to inclement weather. This action is being taken to provide for the safety of life on navigable waterways during this event. Our regulation for Recurring Marine Events within the Fifth Coast Guard District, § 100.501, specifies the location of the regulated area for this event that includes all waters of the Tred Avon River from shoreline to shoreline, within an area bounded on the east by a line drawn from latitude 38°42′25″ N., longitude 076°10′45″ W., thence south to latitude 38°41′37″ N., longitude 076°10′26″ W., and bounded on the west by a line drawn from latitude 38°41′58″ N., longitude 076°11′04″ W., thence south to latitude 38°41′25″ N., longitude 076°10′49″ W., thence east to latitude 38°41′25″ N., longitude 076°10′30″ W., located at Oxford, MD. Only designated marine event participants and their vessels and official patrol vessels are authorized to enter the regulated area. As specified in § 100.501(c), during the enforcement period, the Coast Guard Patrol Commander or designated Marine Event Patrol may forbid and control the movement of all vessels in the regulated area. When hailed or signaled by an official patrol vessel, a vessel in these areas shall immediately comply with the directions given. Failure to do so may result in expulsion from the area, citation for failure to comply, or both. The operator of any vessel in the regulated area shall: (i) Stop the vessel immediately when directed to do so by any Official Patrol and then proceed only as directed; (ii) All persons and vessels shall comply with the instructions of the Official Patrol; (iii) When authorized to transit the regulated area, all vessels shall proceed at the minimum speed necessary to maintain a safe course that minimizes wake near the race course. The Coast Guard may be assisted by other Federal, state or local law enforcement agencies in enforcing this regulation. If the Captain of the Port or his designated on-scene Patrol Commander determines that the regulated area need not be enforced for the full duration stated in this notice, he or she may use a Broadcast Notice to Mariners to grant general permission to enter the regulated area.

This notice of enforcement is issued under authority of 33 CFR 100.501(f), Special Local Regulations and Safety Zones; Recurring Marine Events and Fireworks Displays Within the Fifth Coast Guard District and 5 U.S.C. 552(a). In addition to this notification in the Federal Register, the Coast Guard will provide the maritime community with advance notification of this enforcement period via Broadcast Notice to Mariners and the Local Notice to Mariners. The Captain of the Port, Sector Maryland-National Capital Region, or a designated on-scene representative may be contacted via Channel 16, VHF-FM.

Dated: May 23, 2016.
Michael W. Batchelder
Commander, U.S. Coast Guard, Acting Captain of the Port, Maryland-National Capital Region.

[FR Doc. 2016-13707 Filed 6-8-16; 8:45 am]

BILLING CODE 9110-04-P